DEPARTMENT OF THE TREASURY

Community Development Financial Institutions Fund

Proposed Collection; Comment Request: Community Development Financial Institutions Fund: Comment Request on Continuing Collection of Information From Community Development Financial Institutions Program Awardees, Native American CDFI Assistance Program Awardees, Native American Technical Assistance Program Awardees, Native American CDFI Development Program Awardees, and New Markets Tax Credit Program Allocatees

ACTION: Notice and request for comments.

SUMMARY: The Community Development Financial Institutions Fund (the Fund), a government corporation within the Department of the Treasury, as part of its continuing effort to reduce paperwork and respondent burden, is soliciting comments on continuing information collections, as required by the Paperwork Reduction Act of 1995, Public Law No. 104-13 (44 U.S.C. 3506(c)(2)(A)): (i) Community Development Financial Institutions Program Awardee Annual Report (OMB Number 1559-0006) (hereafter, the Annual Report), and (ii) Annual Survey: Institution Level Report; Transaction Level Report; IRS Compliance Questions (OMB Number 1559-0027) (the Annual Survey). The two documents comprise certain reporting requirements for participants in the Fund's Community Development Financial Institutions (CDFI) Program, Native American CDFI Assistance (NACA) Program, Native American Technical Assistance (NATA) Program, Native American CDFI Development (NACD) Program, and New Markets Tax Credits (NMTC) Program. This notice further serves to consolidate the Annual Report and the Annual Survey. The combined reports shall be referred to as the Annual Report. The Annual Report forms (and related documents, including the CDFI Program assistance agreement, the NACA/NATA/NACD Program assistance agreement, and the NMTC Program allocation agreement) may be found at the Fund's Web site at http://www.cdfifund.gov.

DATES: Written comments must be received on or before October 30, 2006 to be assured of consideration.

ADDRESSES: Comments on the Annual Report must be submitted in writing and sent to Donna Fabiani, Manager for Financial Strategies and Research, as follows: (i) by mail to: Community Development Financial Institutions Fund, U.S. Department of the Treasury, 601 13th Street, NW., Suite 200 South, Washington, DC 20005; (ii) by e-mail to: annualrptcomments@cdfi.treas.gov; or (iii) by fax to: 202/622-7754. Comments on the IRS Compliance Questions section of the Annual Report must be submitted in writing and sent to: Debbie Patel, Team Manager, LMSB: PQA: Post-Filing Team B, Internal Revenue Service, 801 9th St., NW., The Mint Building, M3-312, Washington, DC 20001.

FOR FURTHER INFORMATION CONTACT: Yoo Jin Na, Manager for Compliance Monitoring and Evaluation, as follows: (i) By mail to: Community Development Financial Institutions Fund, U.S. Department of the Treasury, 601 13th Street, NW., Suite 200 South, Washington, DC 20005; (ii) by e-mail to: annualrptcomments@cdfi.treas.gov; or (iii) by fax to: 202/622-7754.

SUPPLEMENTARY INFORMATION: Title: Comment Request on Continuing Collection of Information from Community Development Financial Institutions Program Awardees, Native American CDFI Assistance Program Awardees, Native American Technical Assistance Program Awardees, Native American CDFI Development Program Awardees, and New Markets Tax Credit Program Allocatees.

OMB Number: 1559-0006; OMB Number 1559-0027.

Abstract: The Fund's mission is to expand the capacity of financial institutions to provide credit, capital and financial services to underserved populations and communities in the United States. The Fund's strategic goal is to improve the economic conditions of underserved communities by providing capital and technical assistance to Community Development Financial Institutions (CDFIs), capital to insured depository institutions, and NMTC allocations to Community Development Entities (CDEs), which provide credit, capital, financial services, and development services to these markets. The Fund certifies entities as CDFIs and/or CDEs.

Annual Reporting Requirements: The Annual Report consists of quantitative information at the institution and transaction levels and is used to assess: (1) The awardee's activities in support of its Comprehensive Business Plan; (2) the awardee's approved use of the Fund's assistance; (3) the awardee's financial condition; (4) the socio-economic characteristics of awardee's borrowers/investees, loan and investment terms, repayment status, and community development impacts; and (4) overall compliance with the terms and conditions of the assistance agreement entered into by the Fund and the awardee.

A CDFI Program awardee or a NACA/NATA/NACD Program awardee must submit an Annual Report that comprises several sections, depending on the program and the type of award. The specific components that comprise an awardee's Annual Report are set forth in the assistance agreement that the awardee enters into with the Fund in order to receive a CDFI Program or a NACA/NATA/NACD Program award. In summary:

1. A CDFI Program or NACA/NATA Program awardee that is a non-regulated entity and that receives Financial Assistance (FA) only must submit an Annual Report that comprises: (i) A Financial Report (Financial Statement) reviewed or audited by an independent certified public accountant; (ii) Single Audit A-133 (if applicable); (iii) an Institution Level Report (ILR) and a Transaction Level Report (TLR) (which include, among others, questions that measure the awardee's achievement of the Performance Goals and Measures set forth in its assistance agreement); (iv) a Uses of Financial Assistance and Matching Funds Report; and (v) if applicable, an Explanation of Noncompliance.

2. A CDFI Program or NACA/NATA Program awardee that is a regulated entity and that receives FA only must submit an Annual Report that comprises: (i) An ILR and a TLR; (ii) a Uses of Financial Assistance and Matching Funds Report; (iii) if applicable, an Explanation of Noncompliance; and (iv) if applicable, a Single Audit A-133.

3. A CDFI Program or NACA/NATA/NACD Program awardee that receives an award from the Fund that is in the form of an equity investment must also submit a Shareholder Report.

4. A CDFI Program or NACA/NATA/NACD Program awardee that receives Technical Assistance (TA) must submit an Annual Report that comprises: (i) The documents set forth in either (1) or (2) above, as applicable, if the awardee also receives FA; (ii) Uses of Technical Assistance Report; and (iii) OMB form 269A (Financial Status Report), which can be found on the Fund's Web site at http://www.cdfifund.gov.

A NMTC Program allocatee must submit an Annual Report that comprises: (i) A financial statement that has been audited by an independent certified public accountant; (ii) an ILR (including the IRS Compliance Questions section), if the allocatee has issued any Qualified Equity Investments; and (iii) a TLR if the allocatee has issued any Qualified Low-Income Community Investments in the form of loans or investments. The components that comprise an allocatee's Annual Report are set forth in the allocation agreement that the allocatee enters into with the Fund in order to receive a NMTC Program allocation.

Current Action: N/A.

Type of review: Renewal (combining Annual Report, OMB 1559-0006, with Annual Survey, OMB 1559-0027).

Affected Public: Not-for-profit institutions, businesses or other for-profit institutions and tribal entities.

Burden: Estimated Number of Respondents: 423.

CDFI Annual Report: 233.

NMTC Annual Report: 190.

Estimated Annual Time Per Respondent: 50.

CDFI Program TA awardees: 22 hours.

CDFI Program FA awardees: 62 hours.

NMTC Program allocatees: 65 hours.

Estimated Total Annual Burden Hours: 14,184.

CDFI Program TA reports: 3,300 hours.

CDFI Program FA reports: 9,300 hours.

NMTC Program reports: 1,584 hours.

Request for Comments: Comments submitted in response to this notice will be summarized and/or included in the request for OMB approval. All comments will become a matter of public record. Comments are invited on all aspects of the information collections, but commentators may wish to focus particular attention on: (a) The portion of the requested information that CDFIs and CDEs currently collect and track electronically; (b) the effort and cost for CDFIs and CDEs to begin collecting and electronically tracking any required information not currently collected and tracked electronically (e.g., enhancing systems, purchasing new systems); (c) the cost for CDFIs and CDEs to operate and maintain the services/systems required to provide the required information; (d) ways to enhance the quality, utility, and clarity of the information to be collected; (e) whether the collection of information is necessary for the proper evaluation of the effectiveness and impact of the Fund's programs, including whether the information shall have practical utility; (f) ways to minimize the burden of the collection of information; and (g) the accuracy of the Fund's estimate of the burden of the collection of information.

Authority: 12 U.S.C. 4703, 4703 note, 4707, 4710, 4714, 4717; 26 U.S.C. 45D; 31 U.S.C. 321; and 12 CFR part 1805.

Dated: August 22, 2006.
Arthur A. Garcia,
Director, Community Development Financial Institutions Fund.

[FR Doc. E6-14491 Filed 8-30-06; 8:45 am]

BILLING CODE 4810-70-P